NATIONAL ARCHIVES AND RECORDS ADMINISTRATION

[NARA-2021-011]

Agency Information Collection Activities: Proposed Collection; Comment Request

AGENCY: National Archives and Records Administration (NARA).

ACTION: Notice of proposed extension request.

SUMMARY: We propose to request an extension from the Office of Management and Budget (OMB) of a currently approved information collection used by individuals applying for a research card. Research cards are necessary for access to original archival records in a National Archives and Records Administration facility. We invite you to comment on this proposed information collection pursuant to the Paperwork Reduction Act of 1995.

DATES: We must receive written comments on or before February 22, 2021.

ADDRESSES: Send comments by email to tamee.fechhelm@nara.gov. Because our buildings are temporarily closed during the COVID-19 restrictions, we are not able to receive comments by mail during this time.

FOR FURTHER INFORMATION CONTACT: Tamee Fechhelm, Paperwork Reduction Act Officer, by email at tamee.fechhelm@nara.gov or by telephone at 301.837.1694 with requests for additional information or copies of the proposed information collection and supporting statement.

SUPPLEMENTARY INFORMATION: Pursuant to the Paperwork Reduction Act of 1995 (Pub. L. 104-13), NARA invites the public and other Federal agencies to comment on proposed information collections. The comments and suggestions should address one or more of the following points: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether this collection affects small businesses. We will summarize any comments you submit and include the summary in our request for OMB approval. All comments will become a matter of public record.

In this notice, we solicit comments concerning the following information collection:

Title: Researcher Application.

OMB number: 3095-0016.

Agency form number: NA Form 14003.

Type of review: Regular.

Affected public: Individuals or households, business or other for-profit, not-for-profit institutions, Federal, State, Local or Tribal Government.

Estimated number of respondents: 17,500.

Estimated time per response: 8 minutes.

Frequency of response: On occasion.

Estimated total annual burden hours: 2,333 hours.

Abstract: The information collection is prescribed by 36 CFR 1254.8. The collection is an application for a research card, which people need before they can access original records in a NARA facility. Respondents are individuals who wish to use original archival records. NARA uses the information to screen individuals, to identify which types of records they can use, and to allow further contact.

Swarnali Haldar,
Executive for Information Services/CIO.

[FR Doc. 2020-28137 Filed 12-21-20; 8:45 am]

BILLING CODE 7515-01-P